DEPARTMENT OF HOMELAND SECURITY

Coast Guard

DEPARTMENT OF TRANSPORTATION

Maritime Administration

[USCG-2004-16877]

Cabrillo Port Liquefied Natural Gas Deepwater Port License Application

AGENCY: Coast Guard, DHS. Maritime Administration, DOT.

ACTION: Notice of application.

SUMMARY: The Coast Guard and the Maritime Administration (MARAD) give notice, as required by the Deepwater Port Act of 1974, as amended, that they have received an application for the licensing of a deepwater port, and that the application appears to contain the required information. This notice summarizes the applicant's plans and the procedures that will be followed in considering the application.

DATES: Any public hearing held in connection with this application must be held no later than September 23, 2004, and it would be announced in the Federal Register. A decision on the application must be made within 90 days after the last public hearing held on the application.

ADDRESSES: You may submit comments identified by Coast Guard docket number USCG-2004-16877 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: (202) 493-2251.

(4) Delivery: Room PL-401 on the Plaza level of the Nassif Building, 400 Seventh Street, SW., Washington, DC, between 9 a.m. and 5 p.m., Monday through Friday, except Federal holidays. The telephone number is (202) 366-9329.

(5) Federal eRulemaking Portal: http://www.regulations.gov.

FOR FURTHER INFORMATION CONTACT: If you have questions on this notice, call Lieutenant Commander Kevin Tone at 202-267-0226, or email at: ktone@comdt.uscg.mil. If you have questions on viewing or submitting material to the docket, call Andrea M. Jenkins, Program Manager, Docket Operations, telephone (202) 366-0271.

SUPPLEMENTARY INFORMATION:

Public Participation and Request for Comments

You may submit comments concerning this application. All comments received will be posted, without change, to http://dms.dot.gov and will include any personal information you have provided. We have an agreement with the Department of Transportation (DOT) to use their Docket Management Facility. Please see DOT's “Privacy Act” paragraph below.

Submitting comments: If you submit a comment, please include your name and address, identify the docket number for this rulemaking (USCG-2004-16877), indicate the specific section of this document to which each comment applies, and give the reason for each comment. You may submit your comments and material by electronic means, mail, fax, or delivery to the Docket Management Facility at the address under ADDRESSES; but please submit your comments and material by only one means. If you submit them by mail or delivery, submit them in an unbound format, no larger than 81/2 by 11 inches, suitable for copying and electronic filing. If you submit them by mail and would like to know that they reached the Facility, please enclose a stamped, self-addressed postcard or envelope.

Viewing comments and documents: To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Receipt of application; determination. On September 3, 2003, the Coast Guard and MARAD received an application from BHP Billiton LNG International Inc. (“Port Cabrillo”), 1360 Post Oak Boulevard, Suite 150, Houston, Texas 77056-3020 for all federal authorizations required for a license to own, construct and operate a deepwater port off the coast of California. Supplemental information was furnished at our request on December 9, 2003. On January 5, 2004, we determined that the application contains all information required by the Deepwater Port Act. The application and related documentation supplied by the applicant (except for certain protected information specified in 33 U.S.C. 1513) may be viewed in the public docket (see ADDRESSES).

Background. According to the Deepwater Port Act of 1974, as amended (the Act; 33 U.S.C. 1501 et seq.), a deepwater port is a fixed or floating manmade structure other than a vessel, or a group of structures, located beyond State seaward boundaries and used or intended for use as a port or terminal for the transportation, storage, and further handling of oil or natural gas for transportation to any State.

A deepwater port must be licensed, and the Act provides that a license applicant submit detailed plans for its facility to the Secretary of Transportation, along with its application. The Secretary has delegated the processing of deepwater port applications to the Coast Guard and MARAD. The Act allows 21 days following receipt of the application to determine if it contains all required information. If it does, we must publish a notice of application in the Federal Register and summarize the plans. This notice is intended to meet those requirements of the Act and to provide general information about the procedure that will be followed in considering the application.

Application procedure. The application is considered on its merits. Under the Act, we must hold at least one public hearing within 240 days from the date this notice is published. A separate Federal Register notice will be published to notify interested parties of any public hearings that are held. At least one public hearing must be held in each adjacent coastal state. Pursuant to 33 U.S.C. 1508, we designate California as an adjacent coastal state for this application. Other states may apply for adjacent coastal state status in accordance with 33 U.S.C. 1508(a)(2). After the last public hearing, Federal agencies have 45 days in which to comment on the application, and approval or denial of the application must follow within 90 days of the last public hearing. Details of the application process are described in 33 U.S.C. 1504 and in 33 CFR part 148.

Summary of the application. The application plan calls for construction of a deepwater port and associated anchorages in an area situated in the Pacific Ocean, approximately 14 miles offshore of Ventura County, California, between the cities of Oxnard and Port Hueneme. There are no Mineral Management Service lease blocks involved with this project and the nearest lease block is Lease OCS-P 0202, Platform Gina, which is located in OCS waters 3.7 miles offshore of Port Hueneme. The facility would be adjacent to the existing San Pedro Channel shipping lane.

Port Cabrillo's terminal would be a turret moored, ship hull-like offshore Floating, Storage and Regasification Unit (FSRU), and an interconnected send-out pipeline that would tie into the existing onshore natural gas distribution system of Southern California Gas (SoCalGas). The FSRU would include three independent Moss spherical storage tanks mounted within the vessel's hull, which would provide a total storage capacity of 276,000 cubic meters of LNG. The FSRU's deck would support LNG receiving and submerged combustion vaporization equipment and utilities, berthing accommodations for personnel, ship berthing and mooring system, and facilities for delivery of natural gas to a 30″ pipeline. The pipeline would be 21 miles in length and connect onshore at Ormond Beach (near Oxnard, CA) to an existing gas supply for distribution throughout the Southern California region.

The mooring turret would be fixed to the seabed with an 8-point anchoring system, and consist of 3 flexible riser pipes and a Pipeline Ending Manifold (PLEM).

The facility would be able to receive LNG carriers between 100,000 and 220,000 cubic meter capacities. All marine systems, communication, navigation aids and equipment necessary to conduct safe LNG carrier operations and receipt of product during specified atmospheric and sea states would be provided at the port. LNG offload would be accomplished through use of up to 4, 16″ diameter standard loading arm connections, and at a rate of up to 80,000 gallons per minute.

The regasification process would consist of lifting the LNG from storage tanks, pumping the cold liquid to pipeline pressure, subsequent vaporization across heat exchanging equipment and, finally, send-out through an interconnected pipeline. No gas conditioning would be required for the terminal since the incoming LNG would be pipeline quality. Port Cabrillo expects the terminal would vaporize and deliver up to 0.9 billion cubic feet per day (Bcfd) of natural gas to the pipeline.

Dated: January 12, 2004.
Joseph J. Angelo,
Director of Standards, Marine Safety, Security, and Environmental Protection, Coast Guard.
Raymond R. Barberesi,
Director, Office of Ports and Domestic Shipping, U.S. Maritime Administration.

[FR Doc. 04-1614 Filed 1-26-04; 8:45 am]

BILLING CODE 4910-15-P